DEPARTMENT OF TRANSPORTATION

Federal Aviation Administration

[Docket No. FAA-2020-0936]

Agency Information Collection Activities: Requests for Comments; Clearance of a New Approval of Information Collection: Survey of Industry's Response to Safety Alert for Operators (SAFO) 17007

AGENCY: Federal Aviation Administration (FAA), DOT.

ACTION: Notice and request for comments.

SUMMARY: In accordance with the Paperwork Reduction Act of 1995, FAA invites public comments about our intention to request the Office of Management and Budget (OMB) approval for a new information collection. The Federal Register Notice with a 60-day comment period soliciting comments on the following collection of information was published on October 8, 2020. The collection involves survey responses from U.S. air carrier (Part 121 and Part 135) employees who lead departments responsible for Operations and Standards, Training, and Safety to understand how industry has addressed recommendations from SAFO 17007 and to inform future guidance on manual flight skill proficiency in future en-route and terminal environments. This information collection is necessary, as no other information sources have been identified that would provide the required information. Operator policies and procedures are not publicly shared; therefore, this is the only reliable method to gather anonymous information from a representative industry sample.

DATES: Written comments should be submitted by June 2, 2021.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW, Washington, DC 20503.

FOR FURTHER INFORMATION CONTACT: Victor Quach by email at: victor.k.quach@faa.gov; phone: 202-267-3585, NextGen Human Factors Division, ANG-C1; 800 Independence Ave. SW, Washington, DC 20591.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-XXXX.

Title: Survey of Industry's Response to Safety Alert for Operators (SAFO) 17007.

Form Numbers: Not applicable.

Type of Review: New information collection

Background: The Federal Register Notice with a 60-day comment period soliciting comments on the following collection of information was published on October 8, 2020 (85 FR 6364). The Federal Aviation Administration (FAA) is developing guidance materials on maintaining manual flight skill proficiency in future en-route and terminal environments where pilots will have less opportunities to practice manual flight knowledge, skills, and abilities (KSAs) in a highly automated environment. The FAA is conducting this survey of U.S. air carriers (Part 121 and Part 135) to determine how the organizations have incorporated the recommendations in SAFO 17007 into line operations and training. SAFO 17007 (linked below) encourages the development of training and line-operations policies to ensure that proficiency in manual flight operations is developed and maintained for air carrier pilots. https://www.faa.gov/other_visit/aviation_industry/airline_operators/airline_safety/safo/all_safos/media/2017/SAFO17007.pdf

An invitation to complete a one-time electronic survey will be sent to U.S. air carrier (Part 121 and Part 135) employees who lead departments responsible for Operations and Standards, Training, and Safety. These personnel are responsible for implementing the SAFO's recommendations into line operations and training. All data provided will be kept private to the extent possible by law. To preclude the identification of individual responses, all respondents will be given a participant code that does not identify them or their organization. Only the project leaders will have access to the coding key, which will be destroyed after data analyses are complete. Only analyses and reports of aggregate data will be produced and released.

Failure to collect data on industry incorporation of SAFO 17007 recommendations will impact the quality of future FAA guidance provided to address manual flight operations. As such, it may also jeopardize future manual flight operations in an increasingly automated environment. SAFO 17007 encourages operators to practice manual flight in an operational environment; however, increased use of flight deck automation from NextGen National Airspace improvements will limit practice opportunities resulting in an increased need to make other improvement, which may be addressed through future FAA guidance.

Changes from 60-day Federal Register Notice (FRN): The 60-day FRN listed 1,224 employees of U.S. Part 121 and Part 135 operators as the potential number of respondents, 30 minutes for the average burden per response, and 621 total burden hours. The 30-day FRN revises the respondent universe to 972 employees due to an examination of DOT and FAA records of Part 121 and Part 135 operators and a decision to limit the respondent universe of Part 135 operators to those operating 3 or more turbo-jet aircraft. Average burden per response was corrected to 20 minutes to reflect the average completion time instead of the upper estimate. This results in a new total burden estimate of 321 hours.

Respondents: 972 employees of U.S. Part 121 and Part 135 operators who lead departments responsible for Operations and Standards, Training, and Safety.

Frequency: One time.

Estimated Average Burden per Response: 20 minutes.

Estimated Total Annual Burden: 20 minutes per respondent, 321 total burden hours.

Victor Quach,
Scientific and Technical Advisor, Federal Aviation Administration.

[FR Doc. 2021-09201 Filed 4-30-21; 8:45 am]

BILLING CODE 4910-13-P